DEPARTMENT OF THE TREASURY

Office of the Comptroller of the Currency

FEDERAL RESERVE SYSTEM

List of Office of Thrift Supervision Information Collections Transferred to the Office of the Comptroller of the Currency and the Board of Governors of the Federal Reserve System Pursuant to the Dodd-Frank Wall Street Reform and Consumer Protection Act

AGENCY: Office of the Comptroller of the Currency, Treasury (OCC); Board of Governors of the Federal Reserve System (Board).

ACTION: Joint notice.

SUMMARY: On July 21, 2010, President Barack Obama signed into law the Dodd-Frank Wall Street Reform and Consumer Protection Act (Dodd-Frank Act). As part of the comprehensive package of financial regulatory reform measures enacted, Title III of the Dodd-Frank Act transfers the powers, authorities, rights and duties of the Office of Thrift Supervision (OTS) to other banking agencies, including the OCC and the Board on the “transfer date.” The transfer date is one year after the date of enactment of the Dodd-Frank Act, July 21, 2011. The Dodd-Frank Act also abolishes the OTS ninety days after the transfer date. As a result of the Dodd-Frank Act, OTS transferred all of its information collections to either the OCC or the Board, as appropriate.

FOR FURTHER INFORMATION CONTACT: OCC: Mary H. Gottlieb or Ira L. Mills, OCC Clearance Officers, (202) 874-5090 or (202) 874-6055, Legislative and Regulatory Activities Division, Office of the Comptroller of the Currency, 250 E Street, SW., Washington, DC 20219.

Board: Cynthia Ayouch, Federal Reserve Board Clearance Officer, (202) 452-3829, Division of Research and Statistics, Board of Governors of the Federal Reserve System, 20th and C Streets, NW., Washington, DC 20551. Telecommunications Device for the Deaf (TDD) users may call (202) 263-4869.

SUPPLEMENTARY INFORMATION: This joint notice sets out the list of the OTS's information collections that were transferred to either the OCC or the Board, as appropriate. The tables below indicate the former OTS OMB control numbers for each information collection and the new OMB control numbers for each related OCC or Board information collection.¹ For additional details on any of these information collections, please refer to the following Web site: http://www.reginfo.gov/public/do/PRAMain. Also, the reporting forms applicable to savings and loan holding companies are available on the Board's public Web site at: http://www.federalreserve.gov/reportforms/slhc/otsforms.cfm. Finally, the Dodd-Frank Act also provides that on the designated transfer date, July 21, 2011, rulemaking and certain other authorities relating to Federal consumer financial law transferred to the Consumer Financial Protection Bureau (CFPB). In connection with this transfer of authorities, certain information collections held by OCC and the Board will be transferred to the CFPB. A separate notice will be published identifying the collections transferring to the CFPB.

¹ The interim control numbers reflect the numbers assigned when the collections were initially transferred from OTS to the OCC or Board. The final control numbers that differ from the interim control numbers reflect the existing OCC or Board collection with which the collections will ultimately be merged.

OTS Information Collections That Were Transferred to the OCC
OTS control No. | Title | Interim control No. | Final control No.
1550-0003 | Suspicious Activity Report | 1557-0270 | 1557-0180.
1550-0004 | Deposit and Savings Account by Office | Discontinued | Discontinued.
1550-0005 | Interagency Charter and Federal Deposit Insurance Application | 1557-0269 | 1557-0014.
1550-0006 | Branch Office | 1557-0268 | 1557-0014.
1550-0007 | Application for Conversion | 1557-0267 | 1557-0014.
1550-0011 | General Reporting and Recordkeeping by Savings Assocs. | 1557-0266 | 1557-0176. 1557-0266.
1550-0012 | Community Reinvestment Act | 1557-0265 | 1557-0160.
1550-0013 | Request for Service Corporation Activity | 1557-0264 | 1557-0014.
1550-0016 | Merger Application | 1557-0274 | 1557-0014.
1550-0017 | Amendment of a Savings Association's Bylaws | 1557-0277 | 1557-0014.
1550-0018 | Amendment of a Savings Association's Charter | 1557-0306 | 1557-0014.
1550-0019 | 1934 Act Disclosures | 1557-0258 | 1557-0106.
1550-0021 | Loan Application Register | 1557-0256 | 1557-0176.
1550-0023 | Thrift Financial Report | 1557-0255 | 1557-0081.
1550-0025 | Purchase of Branch Office(s) and/or Transfer of Assets/Liabilities | 1557-0254 | 1557-0014.
1550-0030 | Application For Issuance of Subordinated Debt Securities/Notice of Issuance of Subordinated Debt or Mandatorily Redeemable Preferred Stock | 1557-0276 | 1557-0014.
1550-0032 | Interagency Notice of Change in Control | 1557-0272 | 1557-0014.
1550-0035 | Securities Offering Disclosures | 1557-0273 | 1557-0120.
1550-0037 | Fiduciary Powers of Savings Associations | 1557-0262 | 1557-0140.
1550-0041 | Procedures for Monitoring Bank Secrecy Act | 1557-0263 | 1557-0180.
1550-0047 | Notice of Hiring or Indemnifying Senior Executive Officers or Directors | 1557-0261 | 1557-0014.
1550-0051 | Management Officials Interlocks | 1557-0260 | 1557-0014.
1550-0053 | Application Processing Fees | 1557-0253 | 1557-0014.
1550-0056 | Application Filing Requirements | 1550-0308 | 1557-0014.
1550-0059 | Capital Distributions | New Collection to be Added that is identical to that Transferred to the FRB | New Collection to be Added that is identical to that Transferred to the FRB.
1550-0062 | Minimum Security Devices and Procedures | 1557-0259 | 1557-0180.
1550-0066 | Voluntary Dissolution | 1557-0271 | 1557-0014.
1550-0077 | Operating Subsidiary | 1557-0275 | 1557-0014.
1550-0078 | Lending and Investment | 1557-0278 | 1557-0190.
1550-0081 | Release of Non-Public Information | 1557-0279 | 1557-0200.
1550-0087 | Annual Thrift Satisfaction Survey | 1557-0280 | 1557-0014.
1550-0088 | Loans in Areas Having Special Flood Hazards | 1557-0281 | 1557-0202.
1550-0092 | Deposits | 1557-0282 | 1557-0176.
1550-0094 | Financial Management Policies-Interest Rate Risk | 1557-0299 | 1557-0299.
1550-0095 | Electronic Operations | 1557-0301 | 1557-0301.
1550-0096 | Minority Thrift Certification Form | Discontinued | Discontinued.
1550-0103 | Privacy of Consumer Financial Information | 1557-0302 | 1557-0216.
1550-0104 | Interagency Guidance on Asset Securitization Activities | 1557-0303 | 1557-0217.
1550-0105 | CRA Sunshine | 1557-0284 | 1557-0219.
1550-0106 | Consumer Protection for Depository Institution Sales of Insurance | 1557-0283 | 1557-0220.
1550-0109 | Recordkeeping and Confirmation Requirements for Securities Transactions | 1557-0304 | 1557-0142.
1550-0110 | Interagency Guidance on Response Programs for Unauthorized Access to Customer Information and Customer Notice | 1557-0295 | 1557-0227.
1550-0111 | Statement on Sound Practices Concerning Elevated Risk Complex Structured Finance Activities | 1557-0300 | 1557-0229.
1550-0112 | Fair Credit Reporting Affiliate Marketing Regulations | 1557-0297 | 1557-0230.
1550-0113 | Identity Theft Red Flags and Address Discrepancies under the Fair and Accurate Credit Transactions Act of 2003 | 1557-0305 | 1557-0237.
1550-0115 | Risk-Based Capital Standards: Advanced Capital Adequacy Framework | 1557-0288 | 1557-0234.
1550-0118 | Transfer Agency Registration and Amendment Form | 1557-0298 | 1557-0124.
1550-0119 | Procedures to Enhance the Accuracy and Integrity of Information Furnished to Consumer Reporting Agencies under Section 312 of the FACTA | 1557-0296 | 1557-0238.
1550-0120 | Advanced Capital Adequacy Framework Regulatory Reporting Requirements | 1557-0294 | 1557-0239.
1550-0121 | Survey of Information Sharing Practices with Affiliates | Discontinued | Discontinued.
1550-0122 | Unfair or Deceptive Acts or Practices Disclosures | 1557-0293 | 1557-0293.
1550-0123 | Application and Termination Notice for Municipal Securities Dealer Principal or Representatives | 1557-0307 | 1557-0184.
1550-0125 | Supervisory Guidance: Supervisory Review of Capital Adequacy (Pillar 2) Related to the Implementation of the Basel II Advanced Capital Framework | 1557-0292 | 1557-0242.
1550-0126 | Consumer Complaint Form | 1557-0291 | 1557-0232.
1550-0127 | Registration of Mortgage Loan Originators | 1557-0290 | 1557-0243.
1550-0128 | Funding and Liquidity Risk Management | 1557-0289 | 1557-0244.
1550-0129 | Incentive Compensation Guidance | 1557-0287 | 1557-0245.
1550-0130 | Reverse Mortgage Products-Guidance for Managing Compliance and Reputation Risks | 1557-0285 | 1557-0246.

OTS Information Collections That Were Transferred to the Board
OTS control No. | Title | Interim control No. | Final control No.
1550-0014 | Mutual to Stock Conversion Application | 7100-0335 | 7100-0335
1550-0015 | Savings Associations Holding Company Application | 7100-0336 | 7100-0336
1550-0020 | Savings and Loan Holding Company Registration Statement-H-(b)10 | 7100-0337 | 7100-0337
1550-0059 | Capital Distribution | 7100-0339 | 7100-0339
1550-0060 | Savings Association Holding Company Report H-(b)11 | 7100-0334 | 7100-0334
1550-0072 | Mutual Holding Company | 7100-0340 | 7100-0340
1550-0117 | Prohibited Service at Savings and Loan Holding Companies | 7100-0338 | 7100-0338

Dated: August 17, 2011.
Michele Meyer,
Assistant Director, Legislative & Regulatory Activities Division, Office of the Comptroller of the Currency.
By order of the Board of Governors of the Federal Reserve System, under delegated authority, September 2, 2011.
Jennifer J. Johnson,
Secretary of the Board.

[FR Doc. 2011-23124 Filed 9-8-11; 8:45 am]

BILLING CODE 4810-33-P; 6210-01-P